FEDERAL COMMUNICATIONS COMMISSION

47 CFR Part 73

[DA 04-963; MB Docket No. 04-113, RM-10923, RM-10898; MB Docket No. 04-114, RM-10924, 10925; MB Docket No. 04-115, RM-10926; MB Docket No. 04-116, RM-10927; MB Docket No. 04-117, RM-10928; MB Docket No. 04-118, RM-10929; MB Docket No. 04-119, RM-10930; MB Docket No. 04-120, RM-10931, MB Docket No. 04-121, RM-10932; MB Docket No. 04-122, RM-10933, RM-10934; MB Docket No. 04-123, RM-10935; MB Docket No. 04-124, RM-10936, RM-10937, RM-10938, RM-10939; MB Docket No. 04-125, RM-10940]

Radio Broadcasting Services; Amherst, NY, Berthold, ND, Cordell, OK, Dallas, OR, Dillsboro, NC, Hubbardston, MI, Huntsville, MO, Laurie, MO, Madison, MO, Madras, OR, Weatherford, OK, West Tisbury, MA, Wynnewood, OK

AGENCY: Federal Communications Commission.

ACTION: Proposed rule.

SUMMARY: This document sets forth thirteen reservation proposals requesting to amend the FM Table of Allotments by reserving certain vacant FM allotments for noncommercial educational use in Amherst, NY, Berthold, ND, Cordell, OK, Dallas, OR, Dillsboro, NC, Hubbardston, MI, Huntsville, MO, Laurie, MO, Madison, MO, Madras, OR, Weatherford, OK, West Tisbury, MA, Wynnewood, OK. The Audio Division requests comment on petitions filed Starboard Media Foundation, Inc. proposing the reservation of vacant Channel 282A at West Tisbury, MA, vacant Channel 237A at Dillsboro, NC, and Channel 264C at Berthold, ND for noncommercial use. The reference coordinates for Channel *282A at West Tisbury are 41-22-52 North Latitude and 70-40-30 West Longitude. The reference coordinates for Channel *237A at Dillsboro are 35-15-56 North Latitude and 89-9-16 West Longitude. The reference coordinates for Channel *264C at Berthold are 48-18-54 North Latitude and 101-44-22 West Longitude. The Audio Division requests comment on petitions filed by Living Proof, Inc. and Lansing Community College proposing the reservation of vacant Channel 279A at Hubbardston, MI. The reference coordinates for Channel *279A at Hubbardston are 43-5-53 North Latitude and 84-51-54 West Longitude. See SUPPLEMENTARY INFORMATION, infra.

DATES: Comments must be filed on or before June 7, 2004, and reply comments on or before June 22, 2004.

ADDRESSES: Federal Communications Commission, 445 Twelfth Street, SW., Washington, DC 20554. In addition to filing comments with the FCC, interested parties should serve the petitioner, his counsel, or consultant, as follows: Mark Follett, Starboard Media Foundation, Inc., 2300 Riverside Drive, Green Bay, WI 54301; Harry C. Martin, Esq. and Lee G. Petro, Esq., c/o Living Proof, Inc., Fletcher, Heald & Hildreth PLC, 1300 North 17th Street, 11th Floor, Arlington, VA 22209; John Crigler, c/o Lansing Community College, Garvey Schubert Barer, 1000 Potomac Street, NW., Fifth Floor, Washington, DC 20007; Patrick J. Vaughn, General Counsel, American Family Association, Post Office Drawer 2440, Tupelo, MS 38803; Arthur H. Harding, Esq., Christopher G. Wood, Esq., Mark B. Denbo, Esq., c/o Youngshine Media, Inc., Fleischman and Walsh, L.L.P., 1919 Pennsylvania Avenue, NW., Suite 600, Washington, DC 20006; Russell C. Powell, Esq., c/o Great Plains Christian Radio, Inc., Taylor & Powell, LLP, 908 King Street, Suite 300, Alexandria, VA 22314; Todd D. Gray, Esq., Margaret L. Miller, Esq. and Barry S. Persh, Esq., c/o University of Oklahoma, Dow, Lohnes & Albertson, PLLC, 1200 New Hampshire Avenue, Suite 800, Washington, DC 20036; Jeffrey D. Southmayd, Esq., c/o Sister Sherry Lynn Foundation, Inc., Southmayd & Miller, 1220 19th Street, NW., Suite 400, Washington, DC 20036; Betty McArdle, Vice-President/Treasurer, Northwest Community Radio Project, 3740 SW Comus Street, Portland, OR 97219; Donald E. Martin, Esq., c/o Dallas, Oregon Seventh-Day Adventist Church, Donald E. Martin, P.C., P.O. Box 8433, Falls Church, VA 22041, William J. Byrnes, Esq., c/o Radio Bilingue, Inc., 7921 Old Falls Road, McLean, VA 22102; David A. O'Connor, Esq., c/o Lifetime Ministries, Inc., Holland & Knight LLP, 2099 Pennsylvania Avenue, NW., Suite 100, Washington, DC 20006.

FOR FURTHER INFORMATION CONTACT: Rolanda F. Smith, Media Bureau, (202) 418-2180.

SUPPLEMENTARY INFORMATION: This is a synopsis of the Commission's Notice of Proposed Rule Making, MB Docket Nos. 04-113, 04-114, 04-115, 04-116, 04-117, 04-118, 04-119, 04-120, 04-121, 04-122, 04-123, 04-124, 04-125 adopted April 12, 2004 and released April 14, 2004. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC 20554, telephone 202-863-2893, facsimile 202-863-2898, or via e-mail qualexint@aol.com.

The Audio Division requests comment on petitions filed by American Family Association proposing the reservation of vacant Channel 278C2 at Huntsville, MO, vacant Channel 265C3 at Laurie, MO, and vacant Channel 247C3 at Madison, MO for noncommercial use. The reference coordinates for Channel *278C2 at Huntsville are 39-29-45 North Latitude and 92-25-5 West Longitude. The reference coordinates for Channel *265C3 at Laurie are 38-8-30 North Latitude and 92-50-37 West Longitude. The reference coordinates for Channel *247C3 at Madison are 39-24-37 North Latitude and 92-10-58 West Longitude.

The Audio Division requests comment on a petition filed by Youngshine Media, Inc. proposing the reservation of vacant Channel 221A at Amherst, NY for noncommercial use. The reference coordinates for Channel *221A at Amherst are 42-58-42 North Latitude and 78-48-0 West Longitude.

The Audio Division requests comment on a petition filed by Great Plains Christian Radio, Inc. proposing the reservation of vacant Channel 229A at Cordell, OK for noncommercial use. The reference coordinates for Channel *229A at Cordell are 35-17-24 North Latitude and 98-59-24 West Longitude.

The Audio Division requests comment on petitions filed by Great Plains Christian Radio, Inc. and University of Oklahoma proposing the reservation of vacant Channel 286A at Weatherford, OK for noncommercial use. The reference coordinates for Channel *286A at Weatherford are 35-33-2 North Latitude and 98-43-59 West Longitude.

The Audio Division requests comment on a petition filed by Sister Sherry Lynn Foundation, Inc. proposing the reservation of vacant Channel 283A at Wynnewood, OK for noncommercial use. The reference coordinates for Channel *283A at Wynnewood are 34-38-42 North Latitude and 97-10-0 West Longitude.

The Audio Division requests comment on petitions filed by Northwest Community Radio Project, Dallas, Oregon Seventh-Day Adventist Church, Radio Bilingue, Inc., and Lifetime Ministries, Inc. proposing the reservation of vacant Channel 252C3 at Dallas, Oregon for noncommercial use. The reference coordinates for Channel *252C3 at Dallas are 44-55-6 North Latitude and 123-19-0 West Longitude.

The Audio Division request comment on a petition filed by Radio Bilingue, Inc. proposing the reservation of vacant Channel 251C1 at Madras, Oregon for noncommercial use. The reference coordinates for Channel *251C1 at Madras are 44-50-2 NL and 120-45-55 WL. Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contact.

For information regarding proper filing procedures for comments, see 47 CFR 1.415 and 1.420.

List of Subjects in 47 CFR Part 73

Radio, Radio broadcasting.

For the reasons discussed in the preamble, the Federal Communications Commission proposes to amend 47 CFR Part 73 as follows:

PART 73-RADIO BROADCAST SERVICES

1. The authority citation for part 73 continues to read as follows:

Authority: 47 U.S.C. 154, 303, 334 and 336.

§ 73.202 [Amended]

2. Section 73.202(b), the Table of FM Allotments under Massachusetts, is amended by adding Channel *282A and by removing Channel 282A at West Tisbury.

3. Section 73.202(b), the Table of FM Allotments under Michigan, is amended by adding Channel *279A and by removing Channel 279A at Hubbardston.

4. Section 73.202(b), the Table of FM Allotments under Missouri, is amended by adding Channel *278C2 and by removing Channel 278C2 at Huntsville; by adding Channel *265C3 and by removing Channel 265C3 at Laurie; by adding Channel *247C3 and by removing Channel 247C3 at Madison.

5. Section 73.202(b), the Table of FM Allotments under North Carolina, is amended by adding Channel *237A and by removing Channel 237A at Dillsboro.

6. Section 73.202(b), the Table of FM Allotments under North Dakota, is amended by adding Channel *264C and by removing Channel 264C at Berthold.

7. Section 73.202(b), the Table of FM Allotments under New York, is amended by adding Channel *221A and by removing Channel 221A at Amherst.

8. Section 73.202(b), the Table of FM Allotments under Oklahoma, is amended by adding Channel *229A and by removing Channel 229A at Cordell; by adding Channel *286A and by removing Channel 286A at Weatherford; by adding Channel *283A and by removing Channel 283A at Wynnewood.

9. Section 73.202(b), the Table of FM Allotments under Oregon, is amended by adding Channel *252C3 and by removing Channel 252C3 at Dallas; and by adding Channel *251C1 and by removing Channel 251C1 at Madras.

Federal Communications Commission.
Peter H. Doyle,
Chief, Audio Division, Media Bureau.

[FR Doc. 04-10681 Filed 5-11-04; 8:45 am]

BILLING CODE 6712-01-P